DEPARTMENT OF THE INTERIOR

Bureau of Indian Affairs

Draft Supplemental Environmental Impact Statement for the Proposed Campo Regional Landfill Project on the Campo Indian Reservation, San Diego County, CA

AGENCY: Bureau of Indian Affairs, Interior.

ACTION: Notice of Availability.

SUMMARY: This notice announces the availability for public comment of a Draft Supplemental Environmental Impact Statement (DSEIS) for an amended lease and sublease for the proposed Campo Regional Landfill Project (proposed action) on the Campo Indian Reservation in San Diego County, California. A Final Environmental Impact Statement (FEIS) for the proposed action was issued in November 1992 and a Record of Decision (ROD) was executed in April 1993. This notice also announces the dates, times and locations of the public hearings to receive comments on the DSEIS. The DSEIS was prepared by the Bureau of Indian Affairs (BIA) as lead agency, in cooperation with the Campo Band of Mission Indians (Campo Band), Campo Environmental Protection Agency (CEPA) and the U.S. Environmental Protection Agency (EPA).

DATES: The DSEIS will be available for public comment beginning February 26, 2010. Written comments on this notice must arrive by May 12, 2010, at the address provided below. Two public hearings have been scheduled to receive oral and written comments on the DSEIS:

• Tuesday, April 13, 2010, 6-9 p.m., Campo Indian Reservation, California.

• Wednesday, April 14, 2010, 6-9 p.m., Buckman Springs, California.

ADDRESSES: You may mail or hand carry written comments to Dale Risling, Acting Regional Director, Pacific Regional Office, Bureau of Indian Affairs, 2800 Cottage Way, Sacramento, California 95825. The public hearings will be held at the following locations:

• Campo Tribal Center, 36190 Church Road, Campo, CA.

• Mountain Empire High School, 3305 Buckman Springs Road, Buckman Springs, CA.

See SUPPLEMENTARY INFORMATION for locations where the DEIS/EIR will be available for review and instructions for submitting comments.

FOR FURTHER INFORMATION CONTACT: John Rydzik, (916) 978-6051.

SUPPLEMENTARY INFORMATION: The purpose of the proposed action is to address the socio-economic needs of the Campo Band of Mission Indians through the development and diversification of the tribal economy. A brief description and history of the proposed action, alternatives, location, and areas of environmental concern are provided below. This notice provides a 75-day public comment period and thereby grants an automatic 30-day extension to the normal 45-day public comment period.

Background

The Campo Indian Reservation consists of approximately 16,000 acres in southeastern San Diego County, just north of the United States/Mexico border, approximately 45 miles inland from the Pacific Ocean. The proposed action is to approve an amended lease and amended sublease to allow a 1,150-acre portion of the Campo Indian Reservation to be used for the purpose of constructing and operating a solid waste disposal facility. The solid waste disposal facility would consist of a landfill waste disposal area, a well field area, an access road and other support facilities. The proposed Class III (non-hazardous) solid waste landfill would occupy approximately 400 acres of the 1,150 acre lease area. An additional approximately 200 acres would be developed to support the landfill. Supporting developments include the site entrance facilities, screening berms, utilities, surface recharge basins, and leachate storage lagoons. The remaining 550 acres of the lease area that surround the proposed solid waste landfill facility would serve as an undeveloped buffer area.

In the 1980s, the Campo Band entered into a lease agreement with Muht-Hei, Inc. (MHI), the Band's economic development corporation, pursuant to which MHI would lease a portion of the Campo Indian Reservation for the purpose of constructing and operating a solid waste landfill, recycling facility, and composting facility. In 1989, the Campo Band authorized MHI to enter into a sublease with Mid-American Waste Systems, Inc. (MAWS) for the development of that project. The Campo Band requested that the BIA approve the lease and sublease for the proposed project. An Environmental Impact Statement was prepared by BIA in accordance with the requirements of the National Environmental Policy Act (NEPA) to evaluate the environmental impacts of the proposed project prior to determining whether the proposed leases should be approved. An FEIS was released on November 24, 1992. The U.S. Department of the Interior issued a ROD on April 27, 1993, approving the lease between the Campo Band and MHI and sublease between MHI and MAWS for the proposed solid waste facility. On April 5, 1994, CEPA issued a Final Authority to Construct Permit (ATC) to MHI and MAWS to construct the proposed solid waste landfill subject to the conditions of the ROD and the ATC. Subsequently, MAWS failed to proceed with construction of the project and MHI found MAWS in default of the sublease terms. In early 2003, MHI began negotiations with BLT Enterprises, Inc. (BLT), of Oxnard, CA, on the terms of a sublease to develop the solid waste landfill described in the FEIS. Those negotiations were successfully concluded and the Campo Band authorized MHI to enter into a sublease with BLT on December 12, 2004.

The Campo Band requested the BIA approve the amended lease between the Band and MHI and the amended sublease between MHI and BLT for the proposed action. The BIA, in consultation with the Campo Band, prepared this DSEIS to address changes in the proposed action, relevant information that has become available, and circumstances that have changed in the years since the FEIS was issued. The FEIS included five alternatives to the proposed action as follows: (1) Alternative site 1; (2) Alternative site 2; (3) Reduced waste stream at the proposed site; (4) Reduced area of disturbance at the proposed site; and (5) the No-action alternative. For each of the alternatives, the FEIS addressed land resources, water resources, air quality, living resources, cultural resources, socioeconomics, transportation, land use, resource use patterns, noise and other values. The DSEIS discusses aspects of the proposed action, relevant information that has subsequently become available, and circumstances that have changed since the FEIS was released in 1992 and any change in environmental impacts associated with those changes.

The proposed project would be required to comply with 40 CFR part 258 (Criteria for Municipal Solid Waste Landfills). Because the project proposes to use alternative landfill design and cover, it requires a site-specific flexibility determination to ensure that alternative designs and cover meet the requirements of 40 CFR part 258. For municipal solid waste landfills in Indian Country, the EPA must makes site-specific flexibility determinations. EPA will hold a separate public hearing on its proposed site-specific flexibility determination after it receives and reviews a complete application.

Directions for Submitting Public Comments

Please include your name, return address, and the caption “DSEIS, Campo Solid Waste Management Project,” on the first page of your written comments. You may also submit comments at the public hearings.

Public Availability of the DEIS

The DSEIS will be available for review at the Alpine Public Library, 2130 Arnold Way, Alpine, CA 91901 and the Pine Valley Public Library, 28804 Old Highway 80, Pine Valley, CA 91962. General information for the Alpine Public Library can be obtained by calling (619) 445-4221 and for the Pine Valley Public Library by calling (619) 473-8022. An electronic version of the DSEIS can be viewed at http://www.CampoDSEIS.com.

To obtain a compact disk copy of the DSEIS, please write John Rydzik, Chief of the Division of Environmental, Cultural Resource Management and Safety, Pacific Region, Bureau of Indian Affairs, 2800 Cottage Way, Room W-2820, Sacramento, CA 95825, or call Mr. Rydzik at (916) 978-6051. Individual paper copies of the DSEIS can be provided upon payment of the applicable printing cost for the number of paper copies requested.

Public Availability of Comments

Comments, including names and addresses of respondents, will be available for public review at the BIA address shown in the ADDRESSES section, during business hours, 8 a.m. to 4:30 p.m., Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1502.9, 1503.1 and 1506.6 of the Council of Environmental Quality Regulations (40 CFR parts 1500 through 1508) implementing the procedural requirements of the National Environmental Policy Act of 1969, as amended (42 U.S.C. 4371 et seq.), Department of the Interior Manual (516 DM 1-6), and is in the exercise of authority delegated to the Assistant Secretary—Indian Affairs by 209 DM 8.l.

Dated February 1, 2010.
Larry Echo Hawk,
Assistant Secretary—Indian Affairs.

[FR Doc. 2010-4113 Filed 2-25-10; 8:45 am]

BILLING CODE 4310-W7-P